DEPARTMENT OF ENERGY

Federal Energy Regulatory Commission

Notice of Intent to Prepare Environmental Assessment, Availability of Scoping Document, and Soliciting Scoping Comments

January 22, 2003.

Take notice that the following hydroelectric application has been filed with Commission and are available for public inspection:

a. Type of Application: New Minor License.

b. Project No.: 7725-005.

c. Date filed: September 27, 2002.

d. Applicant: Barton Village Inc.

e. Name of Project: Barton Village Hydroelectric Project.

f. Location: On the Clyde River in the Town of Charleston, Vermont. No federal lands are affected.

g. Filed Pursuant to: Federal Power Act, 16 U.S.C. 791(a)—825(r).

h. Applicant Contact: Denis H. Poirier, Village Supervisor, Barton Village, Inc. 17 Village Square, P.O. Box 519, Barton, Vermont 05822. (802)525-4747.

i. FERC Contact: Frank Winchell at (202)502-6104 or frank.winchell@ferc.gov.

j. Deadline for filing scoping comments: 30 days from the date of this notice.

All documents (original and eight copies) should be filed with: Magalie R. Salas, Secretary, Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site ( http://www.ferc.gov ) under the “FERRIS” link.

k. This application is not ready for environmental analysis at this time.

l. The existing Barton Village Hydroelectric Project consists of: (1) a 77-foot-long, 24-foot-high masonry and concrete gravity dam; (2) 1.5-foot-high flashboards extending 57 feet across a concrete spillway; (3) a 187-acre impoundment at elevation 1,140.9 feet mean sea level (msl); (4) a 665-foot-long, 7-foot-diameter steel penstock; (5) two 105-foot-long, 5.8-foot-diameter steel penstocks leading to: (6) a powerhouse with two units having a total installed capacity of 1.4 MW; (7) two tailraces; and (8) other appurtenant facilities.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item g above.

n. Scoping Process Pursuant to the National Environmental Policy Act and procedures of the Federal Energy Regulatory Commission (Commission or FERC), the Commission staff intends to prepare an Environmental Assessment (EA) that evaluates the environmental impacts of issuing a new license for the continued operation of the Barton Village Hydroelectric Project, located on the Clyde River in Orleans County, Vermont. The project does not affect Federal lands.

The EA will consider both site-specific and cumulative environmental effects, if any, of the proposed action and reasonable alternatives, and will include an economic, financial, and engineering analysis. Preparation of staff's EA will be supported by a scoping process to ensure identification and analysis of all pertinent issues.

We prepared the enclosed Scoping Document (SD) to provide you with information on:

• the Barton Village Hydroelectric Project;

• the environmental analysis process we will follow to prepare the EA; and

• our preliminary identification of issues that we will address in the EA.

We invite the participation of governmental agencies, non-governmental organizations, and the general public in the scoping process, and have prepared this SD to provide information on the proposed project and to solicit written comments and suggestions on our preliminary list of issues and alternatives to be addressed in the EA. The SD has been distributed to parties on the Service List for this proceeding and is available from our Public Reference Room at (202)502-8371. It can also be accessed online at http://www.ferc.gov under the “FERRIS” link.

Given the fact that no comments have been filed related to the relicensing and that Barton Village, Inc. has not proposed any new construction, we do not anticipate at this time that there is adequate justification: (1) to arrange for Commission staff and interested members of the public to visit the project site; or (2) to hold a public meeting near the project site.

Please review this document and, if you wish to provide written input, follow the instructions contained in section 2.2. Please direct any questions about the scoping process to Frank Winchell at (202) 502-6104.

Magalie R. Salas,
Secretary.

[FR Doc. 03-1938 Filed 1-27-03; 8:45 am]

BILLING CODE 6717-01-P